DEPARTMENT OF THE INTERIOR

Fish and Wildlife Service

Notice of Availability, Response to Comments on Restoration Plan and Environmental Assessment for Natural Resources Injured by Releases of Pesticides From the United Heckathorn Superfund Site

AGENCY: Fish and Wildlife Service, Interior.

ACTION: Notice of availability.

SUMMARY: The U.S. Fish and Wildlife Service, on behalf of the Department of the Interior, the National Oceanic and Atmospheric Administration, and the State of California, announces the availability of the response to public comments on the Final Tubbs Island Restoration Plan and Environmental Assessment (Plan/Assessment) for a wetland restoration project at Lower Tubbs Island, Sonoma County, California. The Tubbs Island Restoration Project was selected by the United Heckathorn Natural Resource Trustee Council (Trustees), consisting of representatives of the agencies listed above, as the preferred alternative to compensate the public for impairment of fish and wildlife habitat resulting from releases of dichlorodiphenoltrichloroethane (DDT) at the United Heckathorn Superfund Site in Richmond, California. Funds to carry out the restoration program were obtained via Consent Decrees between the government and the responsible parties in July 1996, and the Final Tubbs Island Restoration Plan and Environmental Assessment was completed in August 1998, along with a Finding of No Significant Impact (FONSI) under the National Environmental Policy Act (NEPA). The Plan/Assessment describes the approach, schedule, and budget for completing and monitoring the restoration project. A public hearing was held on March 22, 2000, to present the Trustees' proposal to fund the Tubbs Island Restoration Project with funds from the United Heckathorn settlement, and all interested parties were invited to submit comments on the proposal. Following a review of comments and consideration of additional proposals submitted by the City of Richmond and the East Bay Regional Parks District, the Council ratified its original decision to fund the project at Lower Tubbs Island.

ADDRESSES: Written requests for the Response to Comments or the Final Restoration Plan/Environmental Assessment should be sent to: Field Supervisor, Fish and Wildlife Service, Sacramento Fish and Wildlife Office, 2800 Cottage Way, Room W-2605, Sacramento, CA 85825 (facsimile 916/414-6713). Documents will also be available for public inspection, by appointment, during normal business hours at the above address. The Response to Comments and Plan/Assessment are also on file at the U.S. Fish and Wildlife Service, San Pablo Bay National Wildlife Refuge P.O. Box 2012, 1404 Mesa Road, Mare Island, CA 94952; (707) 562-3000. They are available for public inspection during normal business hours, by appointment, at that address.

FOR FURTHER INFORMATION CONTACT: James Haas, Fish and Wildlife Service, Sacramento Fish and Wildlife Office (see ADDRESSES section) at (916) 414-6604.

Author

The primary author of this notice is James Haas (see ADDRESSES section).

Authority

The authority for this action is the Comprehensive Environmental Response, Compensation, and Liability Act of 1980, as amended (42 U.S.C. 9601 et seq.).

Dated: February 15, 2001.
Elizabeth H. Stevens,
Acting Manager, California-Nevada Operations Office, Sacramento, California.

[FR Doc. 01-5975 Filed 3-9-01; 8:45 am]

BILLING CODE 4310-55-P